DEPARTMENT OF TRANSPORTATION

Federal Transit Administration

Safety Advisory 23-1 Bus-to-Person Collisions

AGENCY: Federal Transit Administration (FTA), Department of Transportation (DOT).

ACTION: Notice of Safety Advisory.

SUMMARY: The Federal Transit Administration (FTA) is issuing Safety Advisory 23-1 to encourage agencies that provide bus service to consider mitigation strategies to reduce bus-to-person collisions. This safety advisory provides guidance on identifying specific hazards that may cause or contribute to bus-to-person collisions, completing a safety risk assessment, and developing mitigations to address the assessed safety risks for transit agencies. FTA's Safety Advisory 23-1 “Bus-to-Person Collisions” is available on the agency's public website (https://www.transit.dot.gov/regulations-and-guidance/safety/fta-safety-advisories).

FOR FURTHER INFORMATION CONTACT: Joseph DeLorenzo, Associate Administrator for Transit Safety and Oversight, FTA, telephone (202) 366-1783 or Joseph.DeLorenzo@dot.gov.

(Authority: 49 U.S.C. 5329; 49 CFR 1.91 and 670.29)

Nuria I. Fernandez,
Administrator.

[FR Doc. 2023-20259 Filed 9-18-23; 8:45 am]

BILLING CODE 4910-57-P